DEPARTMENT OF LABOR

Office of the Secretary

Presidential Task Force on Employment of Adults With Disabilities; Notice of Town Hall Meeting

AGENCY: Office of the Secretary, Labor.

ACTION: Notice of Town Hall meeting.

SUMMARY: Pursuant to Executive Order No. 13078, authorizing the Presidential Task Force on Employment of Adults with Disabilities (Task Force), notice is given of a Town Hall Meeting. The purpose of the Task Force is to create a “coordinated and aggressive national policy to bring adults with disabilities into gainful employment at a rate that is as close as possible to that of the general adult population.” The purpose of the Town Hall Meetings is to invite the public to participate by discussing their thoughts, concerns, and experiences with Task Force members. The topics to be addressed at this Town Hall Meeting will include expanding employment opportunities for people with psychiatric disabilities.

DATES: The Task Force will hold a Town Hall Meeting on Wednesday, May 24, 2000 from 2:00 p.m. to approximately 7:00 p.m. Registration will begin at 12:00 noon. The date, location, and time for each subsequent Town Hall Meeting will be announced in advance in the Federal Register.

ADDRESSES: The site of this Town Hall Meeting is the State Capitol, Legislative Office Building, Hartford, Connecticut. All interested parties are invited to attend this Town Hall Meeting. Seating may be limited and will be available on a first-come, first-served basis.

FOR FURTHER INFORMATION CONTACT: Paul E. Bennett, Presidential Task Force on Employment of Adults with Disabilities, U. S. Department of Labor, 200 Constitution Avenue, NW, Room S-2220D, Washington, DC 20210. Requests can be made by e-mail to: bennett-paul@dol.gov; by phone (202) 693-4939; TTY (202) 693-4920; or fax (202) 693-4929. These are not toll-free numbers.

SUPPLEMENTARY INFORMATION: Pursuant to Executive Order No. 13078, the Presidential Task Force on Employment of Adults with Disabilities (Task Force), notice is given of a Town Hall Meeting.

The purpose of the Task Force is to develop a “coordinated and aggressive national policy to bring adults with disabilities into gainful employment at a rate that is as close as possible to that of the general adult population.” The purpose of this Town Hall Meeting is to invite stakeholders to address the alarming unemployment rate among Americans with disabilities. The theme for the meeting is: “Recovering Our Dreams: Persons with Psychiatric Disabilities in Search of Opportunities and Careers”. Particular focus is requested at this meeting on expanding employment opportunities for people with psychiatric disabilities.

Appointed by President Clinton, the membership of the Task Force is as follows: Secretary of Labor, Chair of the Task Force; Chair of the President's Committee on Employment of People with Disabilities, Vice Chair of the Task Force; Secretary of Education; Secretary of Veterans Affairs; Secretary of Health and Human Services; Commissioner of the Social Security Administration; Secretary of the Treasury; Secretary of Commerce; Secretary of Transportation; Director of the Office of Personnel Management; Administrator of the Small Business Administration; Chair of the Equal Employment Opportunity Commission; Chair of the National Council on Disability; Commissioner of the Federal Communications Commission; Secretary of Agriculture; Secretary of Housing and Urban Development; Secretary of the Interior; the Attorney General; and such other senior executive branch officials as may be determined by the Chair of the Task Force.

Agenda

The Town Hall Meeting is an open forum where the public is invited to give testimony and/or make presentations with a focus on expanding employment opportunities for people with psychiatric disabilities.

Public Participation

Members of the public wishing to present an oral statement to the Task Force should forward their requests as soon as possible but no later than May 10, 2000. Requests may be made by telephone, fax machine, or mail. Time permitting, the members of the Task Force will attempt to accommodate all requests by reserving time for presentations. The order of persons making such presentations will be assigned in the order in which the requests are received. Members of the public must limit oral statements to five minutes, but extended written statements may be submitted for the record. Members of the public may also submit written statements for distribution to the Task Force members and inclusion in the public record without presenting oral statements. Such written statements should be sent by mail or fax machine no later than May 10, 2000.

Information on Town Hall Meetings and summaries of other documents are available to the public on the Task Force's web site, found on the Department of Labor's web site at www.dol.gov.

Reasonable accommodations will be available. Persons needing any special assistance such as sign language interpretation, or other special accommodation, are invited to contact the Task Force as shown above.

Signed at Washington, DC, this first day of May, 2000.
Rebecca L. Ogle,
Executive Director, Presidential Task Force on Employment of Adults with Disabilities.

[FR Doc. 00-11152 Filed 5-3-00; 8:45 am]

BILLING CODE 4510-23-P